ENVIRONMENTAL PROTECTION AGENCY

[FRL-9985-24-OW]

Information Sessions in Chicago, Boston and Atlanta; Implementation of the Water Infrastructure Finance and Innovation Act of 2014

AGENCY: Environmental Protection Agency (EPA).

ACTION: Notice.

SUMMARY: The U.S. Environmental Protection Agency (EPA) is announcing plans to hold information sessions on Tuesday, November 13, 2018 in Chicago, Illinois; Tuesday, December 11, 2018 in Boston, Massachusetts; and Tuesday, January 15, 2019 in Atlanta, Georgia. The purpose of these sessions is to provide prospective borrowers with a better understanding of the Water Infrastructure Finance and Innovation Act (WIFIA) program's status, eligibility and statutory requirements, application process, and financial benefits and flexibilities. The EPA will also offer 30-minute individual meetings with participants to learn more about prospective borrower projects and answer specific questions. Participants will receive a link to sign-up for these meeting slots after registering for an information session. Additional information sessions and webinars will be announced.

DATES: The session in Chicago, Illinois will be held on Tuesday, November 13, 2018 from 9:00 a.m.-2:30 p.m. (CT) at 77 W Jackson Blvd., Chicago, Illinois 60604. The session in Boston, Massachusetts will be held on Tuesday, December 11, 2018 from 9:00 a.m.-2:30 p.m. (ET) at 5 Post Office Square, Suite 100, Boston, Massachusetts 02109. The session in Atlanta, Georgia will be held on Tuesday, January 15, 2019 from 9:00 a.m.-2:30 p.m. (ET) at 61 Forsyth St. SW, Atlanta, Georgia 30303.

To register: Registration information for the information session is available at https://www.epa.gov/wifia.

FOR FURTHER INFORMATION CONTACT: For further information about this notice, including registration information, contact Arielle Gerstein, EPA Headquarters, Office of Water, Office of Wastewater Management at tel.: 202-564-1868; or email: WIFIA@epa.gov. Members of the public are invited to participate in the session as capacity allows.

Authority: Water Infrastructure Finance and Innovation Act, Public Law 113-121.

SUPPLEMENTARY INFORMATION: Under WIFIA, the EPA will provide loans and loan guarantees for water infrastructure of national or regional significance. WIFIA was signed into law on June 11, 2014 as Public Law 113-121. The EPA will provide an overview of the program's statutory and eligibility requirements, application and selection process, and creditworthiness assessment. The EPA will also explain the financial benefits of WIFIA credit assistance and provide high-level information about the benefits and flexibilities of closed loans. The intended audience is prospective borrowers including municipal entities, corporations, partnerships, and State Revolving Fund programs, as well as the private and non-governmental organizations that support prospective borrowers.

Dated: September 28, 2018.
Andrew D. Sawyers,
Director, Office of Wastewater Management.

[FR Doc. 2018-22014 Filed 10-11-18; 8:45 am]

BILLING CODE 6560-50-P